ENVIRONMENTAL PROTECTION AGENCY

[EPA-R09-OAR-2011-0024; FRL-9256-9]

Notice of Re-Issuance of the Prevention of Significant Deterioration Applicability Determination for the Carlsbad Energy Center Project, Carlsbad, CA

AGENCY: Environmental Protection Agency (EPA).

ACTION: Notice of final action.

SUMMARY: This notice announces that on January 10, 2011, the EPA issued a determination that the proposal to modify the Encina Power Station is not subject to the Prevention of Significant Deterioration (PSD) permit program under the Clean Air Act (CAA). This determination corrects a typographical error in the emission data in our previous determination issued on October 13, 2010. Therefore, the determination issued on January 10, 2011 replaces the one EPA issued on October 13, 2010.

ADDRESSES: EPA's determination and other related documents used in the determination are available electronically on EPA's Web site at http://www.epa.gov/region9/air/permit/r9-permits-issued.html. These documents are also available for public inspection during normal business hours at the following address: EPA Region 9, 75 Hawthorne Street, San Francisco, California 94105. For more information or to arrange viewing of these documents, contact Shaheerah Kelly at (415) 947-4156 or kelly.shaheerah@epa.gov.

FOR FURTHER INFORMATION CONTACT: Shaheerah Kelly, EPA Region 9, Air Division (AIR-3), 75 Hawthorne Street, San Francisco, CA 94105, (415) 947-4156, kelly.shaheerah@epa.gov.

SUPPLEMENTARY INFORMATION: The Carlsbad Energy Center Project is a proposed 540 MW net (558 MW gross) combined cycle natural gas-fired power plant that will be built at the existing Encina Power Station in the city of Carlsbad in San Diego County, California. The Carlsbad Energy Center Project will replace three of five existing natural gas-fired boilers located at the eastern end of the property site at the Encina Power Station. The Encina Power Station is owned by NRG Energy, Inc. (NRG), and currently has a total of five natural gas-fired boilers, which are allowed to use No. 6 fuel oil during curtailments, and three fuel oil storage tanks. The Encina Power Station is an existing major source, and the addition of the Carlsbad Energy Center Project would be a physical change to the facility.

EPA Region 9 has authority to implement the Clean Air Act Prevention of Significant Deterioration Program at 40 CFR 52.21 for San Diego County, California. Because the Carlsbad Energy Center Project is a physical change to an existing major stationary source, EPA Region 9 evaluated whether the physical change is a major modification by determining whether the physical change will result in a net emission increase for pollutants regulated under the PSD permit program. We received emissions information from NRG on June 5, 2009, as well as additional information since that time. This emissions information addressed the following criteria pollutants associated with the modification: nitrogen oxides, carbon monoxide, particulates, volatile organic compounds, and sulfur oxides. On October 13, 2010, we issued a determination that the Carlsbad Energy Center Project is not subject to the PSD permit program under the Clean Air Act (CAA). EPA published a Federal Register notice for this action on November 19, 2010 (75 FR 70916-70917).

It has recently come to EPA's attention that Table 2 of the October 13, 2010 determination contained a typographical error in the emissions data. Specifically, EPA changed the net emission increase for nitrogen oxides (NOx) in Table 2 of the PSD applicability analysis from 39.2 tpy (which is incorrect) to 31.2 tpy. The new emission level is still below the PSD significant threshold for that pollutant. EPA made this correction and issued a corrected determination on January 10, 2011. No other changes to the previous determination were made. Therefore, the determination issued on January 10, 2011 replaces the one issued on October 13, 2010.

If available, judicial review of EPA's determination may be sought by filing a petition for review pursuant to section 307(b)(1) of the CAA in the United States Court of Appeals for the Ninth Circuit within 60 days from the date on which this notice is published in the Federal Register.

Dated: January 13, 2011.
Deborah Jordan,
Director, Air Division, Region 9.

[FR Doc. 2011-1469 Filed 1-24-11; 8:45 am]

BILLING CODE 6560-50-P